ENVIRONMENTAL PROTECTION AGENCY

[FRL-7873-6]

Science Advisory Board Staff Office; Request for Nominations for the Science Advisory Board's Consultation on EPA's Framework for Revising the Aquatic Life Criteria Guidelines

AGENCY: Environmental Protection Agency (EPA).

ACTION: Notice.

SUMMARY: The EPA Science Advisory Board (SAB) Staff Office is requesting nominations to augment expertise on the SAB Ecological Processes and Effects Committee for a panel to provide consultation to EPA on the framework for revising the Aquatic Life Criteria Guidelines.

DATES: Nominations should be submitted by March 1, 2005 per the instructions below.

FOR FURTHER INFORMATION CONTACT: Any member of the public wishing further information regarding this Request for Nominations may contact Dr. Thomas Armitage, Designated Federal Officer (DFO), via telephone/voice mail at (202) 343-9995; via e-mail at armitage.thomas@epa.gov; or at the U.S. EPA Science Advisory Board (1400F), 1200 Pennsylvania Ave., NW., Washington, DC 20460. General information about the SAB can be found in the SAB Web site at http://www.epa.gov/sab.

SUPPLEMENTARY INFORMATION: Background: EPA's recommended ambient water quality criteria for aquatic life provide guidance to states and tribes for adopting water quality standards which are the basis for controlling discharges or releases of pollutants. Currently, ambient water quality criteria for aquatic life protection are derived according to the Guidelines for Derivation of Ambient Water Quality Criteria for the Protection of Aquatic Life and Their Uses, published in 1985. To ensure that ambient water quality criteria are derived from the best available science, EPA's Office of Water assessed the need to update the Guidelines and identified issues that should be addressed in the revisions. EPA briefed the SAB Ecological Processes and Effects Committee about this effort in December 2002, and the Committee supported EPA's assessment of the need to update the Guidelines as well as the issues EPA identified to address. To achieve the goal of revising the Guidelines EPA has formed an interagency workgroup, the Aquatic Life Criteria Guidelines Committee, as the technical body to review the state-of-the-science and recommend new or improved approaches for deriving ambient water quality criteria. EPA's Office of Water has therefore requested a consultation with the SAB on a proposed framework for revising the Guidelines.

The Science Advisory Board is a chartered Federal advisory committee established under 42 U.S.C. 4365 to provide independent scientific and technical advice, consultation, and recommendations to the EPA Administrator on the technical basis for Agency positions and regulations. The panel being formed will provide advice to the EPA through the Chartered SAB. The Panel will comply with the provisions of the Federal Advisory Committee Act and all appropriate SAB procedural policies, including the SAB process for panel formation described in the Overview of the Panel Formation Process at the Environmental Protection Agency Science Advisory Board, which can be found on the SAB's Web site at: http://www.epa.gov/sab/pdf/ec0210.pdf. The work of this panel includes reviewing background material, and participating in a one-day face-to-face meeting for the consultation.

Tentative Charge to the Panel: EPA's Office of Water seeks the opportunity for a consultation with the SAB to receive comments on the Agency's proposed framework for revising the Aquatic Life Criteria Guidelines. EPA is seeking advice and recommendations on: (1) The general scope of the proposed framework; (2) the suitability of the preliminary scientific approaches, methods and models identified to be incorporated into the revised Guidelines; (3) additional or alternative approaches, methods, and models that should be considered; and (4) additional scientific issues and/or revisions that should be considered.

Request for Nominations: The SAB Staff Office is requesting nominations to augment expertise on the SAB Ecological Processes and Effects Committee to form an SAB panel for a consultation on the framework for revising the Aquatic Life Criteria Guidelines. To augment expertise on the Ecological Processes and Effects Committee, the SAB Staff Office is seeking individuals who have expertise in one or more of the following areas: (a) Aquatic toxicology, particularly kinetic toxicity modeling and tissue residue-based toxicity data and residue-response relationships; (b) biology of aquatic and benthic species; (c) bioaccumulation modeling, including both simple bioaccumulation factors (bioaccumulation factors and biota-sediment accumulation factors) and complex dynamic food web/chain models; and (d) population modeling.

Process and Deadline for Submitting Nominations: Any interested person or organization may nominate individuals qualified in the areas of expertise described above to serve on the Subcommittee. Nominations should be submitted in electronic format through the Form for Nominating Individuals to Panels of the EPA Science Advisory Board provided on the SAB Web site at: http://www.epa.gov/sab. The form can be accessed through a link on the blue navigational bar on the SAB Web site. To be considered, all nominations must include the information required on that form.

Anyone who is unable to submit nominations using this form, and any questions concerning any aspects of the nomination process may contact the DFO, as indicated above in this notice. Nominations should be submitted in time to arrive no later than March 1, 2005. Any questions concerning either this process or any other aspects of this notice should be directed to the DFO.

The SAB will acknowledge receipt of the nomination and inform nominators of the panel selected. From the nominees identified by respondents to this Federal Register notice (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and biosketch. Public comments on the Short List will be accepted for 14 calendar days. During this comment period, the public will be requested to provide information, analysis or other documentation on nominees that the SAB Staff should consider in evaluating candidates for the Panel.

For the SAB, a balanced review panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by SAB Staff independently of the background of each candidate (e.g., financial disclosure information and computer searches to evaluate a nominee's prior involvement with the topic under review). Specific criteria to be used in evaluation of an individual subcommittee member include: (a) Scientific and/or technical expertise, knowledge, and experience (primary factors); (b) absence of financial conflicts of interest; (c) scientific credibility and impartiality; (d) availability and willingness to serve; and (e) ability to work constructively and effectively in committees.

Short List candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

In addition to reviewing background material, Panel members will be asked to attend one public face-to-face meeting over the anticipated course of the advisory activity.

Dated: February 7, 2005.
Vanessa T. Vu,
Director, EPA Science Advisory Board Staff Office.

[FR Doc. 05-2893 Filed 2-14-05; 8:45 am]

BILLING CODE 6560-50-P